DEPARTMENT OF JUSTICE

Notice of Lodging of Consent Decree Resolving Claims for Contamination of Mountain Lake in the Presidio of San Francisco

Notice is hereby given that on November 10, 2011, a proposed Consent Decree (“Decree”) in United States v. California Dept. of Transportation, Civil Action No. 4-09-CV-00437-PJH, was lodged with the United States District Court for the Northern District of California.

In this action the United States alleged that Defendant the California Department of Transportation (“Caltrans”) is in violation of a 1938 permit that authorized construction of Highway 1 (also known as Park Presidio Boulevard) across a portion of the Presidio of San Francisco, because run-off from the highway has contaminated Mountain Lake sediment with lead, copper, zinc and other substances, and drainage facilities for which Caltrans is responsible are degraded and in need of repair or replacement. The Decree resolves these claims and requires Caltrans to pay $5.5 million toward the remediation of Mountain Lake sediment contamination, to pay $4 million for repair or replacement of the overflow pipeline that drains Mountain Lake, and to pay $500,000 toward certain legal costs in pursuing this action. In addition, the Decree requires Caltrans to reconfigure Highway 1 drainage facilities to avoid further discharges of highway run-off to Mountain Lake.

The Department of Justice will receive for a period of thirty (30) days from the date of this publication comments relating to the Decree. Comments should be addressed to the Assistant Attorney General, Environment and Natural Resources Division, and either emailed to pubcomment-ees.enrd@usdoj.gov or mailed to P.O. Box 7611, U.S. Department of Justice, Washington, DC 20044-7611, and should refer to United States v. California Dept. of Transportation, D.J. Ref. 90-11-3-09037.

During the public comment period, the Decree may also be examined on the following Department of Justice Web site: http://www.usdoj.gov/enrd/Consent_Decrees.html. A copy of the Decree may also be obtained by mail from the Consent Decree Library, P.O. Box 7611, U.S. Department of Justice, Washington, DC 20044-7611 or by faxing or emailing a request to Tonia Fleetwood (tonia.fleetwood@usdoj.gov), fax no. (202) 514-0097, phone confirmation number (202) 514-1547. If requesting a copy from the Consent Decree Library by mail, please enclose a check in the amount of $13.00 (25 cents per page reproduction cost) payable to the U.S. Treasury or, if requesting by email or fax, forward a check in that amount to the Consent Decree Library at the address given above.

Henry Friedman,
Assistant Chief, Environmental Enforcement Section, Environment and Natural Resources Division.

[FR Doc. 2011-30206 Filed 11-22-11; 8:45 am]

BILLING CODE 4410-15-P